DEPARTMENT OF COMMERCE

International Trade Administration

[A-351-843, A-533-865, A-580-881, A-412-824]

Certain Cold-Rolled Steel Flat Products from Brazil, India, the Republic of Korea, and the United Kingdom: Amended Final Affirmative Antidumping Determinations for Brazil and the United Kingdom and Antidumping Duty Orders

AGENCY: Enforcement and Compliance, International Trade Administration, Department of Commerce.

SUMMARY: Based on affirmative final determinations by the Department of Commerce (the Department) and the U.S. International Trade Commission (the ITC), the Department is issuing antidumping duty (AD) orders on certain cold-rolled steel flat products (cold-rolled steel) from Brazil, India, the Republic of Korea (Korea), and the United Kingdom. In addition, the Department is amending its final determinations of sales at less-than-fair value (LTFV) from Brazil and the United Kingdom, to correct ministerial errors.

DATES: Effective September 20, 2016.

FOR FURTHER INFORMATION CONTACT: Hermes Pinilla at (202) 482-3477 (Brazil); Patrick O'Connor at (202) 482-0989 (India); Victoria Cho at (202) 482- 5075 (Korea); or Thomas Schauer at (202) 482-0410 (the United Kingdom), AD/CVD Operations, Enforcement and Compliance, International Trade Administration, U.S. Department of Commerce, 1401 Constitution Avenue NW., Washington, DC 20230.

SUPPLEMENTARY INFORMATION:

Background

In accordance with sections 735(d) and 777(i)(1) of the Tariff Act of 1930, as amended (the Act), on July 29, 2016, the Department made final determinations that cold-rolled steel from Brazil, India, Korea, Russia, and the United Kingdom is being sold in the United States at less-than-fair value.¹

¹ See Certain Cold-Rolled Steel Flat Products From Brazil: Final Determination of Sales at Less Than Fair Value, 81 FR 44946 (July 29, 2016) (Brazil Final); Certain Cold-Rolled Steel Flat Products From India: Final Determination of Sales at Less Than Fair Value; 81 FR 49938 (July 29, 2016) (India Final); Certain Cold-Rolled Steel Flat Products From the Republic of Korea: Final Determination of Sales at Less Than Fair Value, 81 FR 49953 (July 29, 2016) (Korea Final); Certain Cold-Rolled Steel Flat Products From the Russian Federation: Final Determination of Sales at Less Than Fair Value and Final Affirmative Determination of Critical Circumstances, in Part, 81 FR 49950 (July 29, 2016) (Russia Final); and Certain Cold-Rolled Steel Flat Products From the United Kingdom: Final Determination of Sales at Less Than Fair Value, 81 FR 49929 (July 29, 2016) (UK Final).

On July 29, 2016, U.S. Steel, one of the petitioners,² submitted a timely filed allegation that the Department made certain ministerial errors in calculating the weighted-average dumping margin for Companhia Siderurgica Nacional (CSN) in the Brazil Final. We reviewed U.S. Steel's allegations and determined that we made certain ministerial errors. See “Amendment to the Brazil and United Kingdom Final Determinations” section below for further discussion.

² AK Steel Corporation (AK Steel), ArcelorMittal USA LLC, Nucor Corporation, Steel Dynamics, Inc., and United States Steel Corporation (U.S. Steel) (collectively, the petitioners).

On July 27 and 29, 2016, Tata Steel UK Ltd. (TSUK) and AK Steel, one of the petitioners, submitted timely filed allegations that the Department made certain ministerial errors in calculating the weighted-average dumping margin for TSUK in the UK Final. We reviewed the allegations and determined that we made certain ministerial errors. See “Amendment to the Brazil and United Kingdom Final Determinations” section below for further discussion.

On September 12, 2016, the ITC notified the Department of its affirmative determinations that an industry in the United States is materially injured within the meaning of section 735(b)(1)(A)(i) of the Act, by reason of the LTFV imports of certain cold-rolled steel flat products from Brazil, India, the Republic of Korea, and the United Kingdom.³ In the same letter, the ITC notified the Department of its negative determination that an industry in the United States is materially injured within the meaning of section 735(b)(1)(A)(i) of the Act, by reason of the LTFV imports of certain cold-rolled steel flat products from Russia.⁴

³ See Letter to Christian Marsh, Deputy Assistant Secretary of Commerce for Enforcement and Compliance, from Irving A. Williamson, Chairman of the U.S. International Trade Commission, regarding certain cold-rolled steel flat products from Brazil, India, Korea, Russia, and the United Kingdom (September 12, 2016) (ITC Letter). See also Cold-Rolled Steel Flat Products from Brazil, India, Korea, Russia, and the United Kingdom (Investigation Nos. 701-TA-540-544 and 731-TA-1283-1290 (Final), USITC Publication 4564, September 2016).

⁴ Id.

Scope of the Orders

The product covered by these orders is certain cold-rolled steel flat products. For a complete description of the scope of these orders, see Appendix I.

Amendment to the Brazil and United Kingdom Final Determinations

As discussed above, after analyzing the comments received from U.S. Steel, we determined, in accordance with section 735(e) of the Act and and 19 CFR 351.224(f), that we made ministerial errors with regard to CSN's margin program by incorrectly referencing two variable names in revising the company's further manufacturing cost for its U.S. sales. This amended final AD determination corrects these ministerial errors. In addition, because the Department used CSN's final margin as the all-others rate, the amended final AD determination also revises the “all-others” rate accordingly. The dumping margins reported in this notice reflect the correction of these ministerial errors.

As discussed above, after analyzing the comments received from TSUK and AK Steel, we determined, in accordance with section 735(e) of the Act and and 19 CFR 351.224(f), that we made ministerial errors with respect to the calculation of a partial adverse facts available market price used for the transactions disregarded analysis of TSUK's affiliated electricity purchases. This amended final AD determination corrects those errors. In addition, because the Department calculated the “all-others” rate based on a weighted average of the respondents' margins using publicly-ranged quantities for their sales of subject merchandise, this amended final AD determination also revises the all-others rate accordingly. The dumping margins reported in this notice reflect the correction of these ministerial errors.

Antidumping Duty Orders

In accordance with sections 735(b)(1)(A)(i) and 735(d) of the Act, the ITC has notified the Department of its final determinations that an industry in the United States is materially injured by reason of LTFV imports of certain cold-rolled steel flat products from Brazil, India, Korea, and the United Kingdom.⁵ Therefore, in accordance with section 735(c)(2) of the Act, we are publishing these AD orders. Because the ITC determined that LTFV imports of certain cold-rolled steel flat products from Brazil, India, Korea, and the United Kingdom are materially injuring a U.S. industry, unliquidated entries of such merchandise from Brazil, India, Korea, and the United Kingdom, entered or withdrawn from warehouse for consumption, are subject to the assessment of antidumping duties.

⁵ See ITC Letter.

Therefore, in accordance with section 736(a)(1) of the Act, the Department will direct U.S. Customs and Border Protection (CBP) to assess, upon further instruction by the Department, antidumping duties equal to the amount by which the normal value of the merchandise exceeds the export price (or constructed export price) of the merchandise, for all relevant entries of certain cold-rolled steel flat products from Brazil, India, Korea, and the United Kingdom. Antidumping duties will be assessed on unliquidated entries of certain cold-rolled steel flat products from Brazil, India, Korea, and the United Kingdom entered, or withdrawn from warehouse, for consumption on or after March 7, 2016, the date of publication of the preliminary determinations,⁶ but will not include entries occurring after the expiration of the provisional measures period and before publication of the ITC's final injury determination, as further described below.

⁶ See Certain Cold-Rolled Steel Flat Products From Brazil: Affirmative Preliminary Determination of Sales at Less Than Fair Value, Postponement of Final Determination, and Extension of Provisional Measures, 81 FR 11754 (March 7, 2016) (Brazil Prelim); Certain Cold-Rolled Steel Flat Products From India: Affirmative Preliminary Determination of Sales at Less Than Fair Value and Postponement of Final Determination and Extension of Provisional Measures, 81 FR 11741 (March 7, 2016) (India Prelim); Certain Cold-Rolled Steel Flat Products From the Republic of Korea: Affirmative Preliminary Determination of Sales at Less Than Fair Value and Postponement of Final Determination, 81 FR 11757 (March 7, 2016) (Korea Prelim); and Certain Cold-Rolled Steel Flat Products From the United Kingdom: Affirmative Preliminary Determination of Sales at Less Than Fair Value, Postponement of Final Determination and Extension of Provisional Measures, 81 FR 11744 (March 7, 2016) (UK Prelim).

Suspension of Liquidation

In accordance with section 735(c)(1)(B) of the Act, we will instruct CBP to suspend liquidation on all relevant entries of certain cold-rolled steel flat products from Brazil, India, Korea, and the United Kingdom. These instructions suspending liquidation will remain in effect until further notice.

We will also instruct CBP to require cash deposits equal to the amounts as indicated below, adjusted for certain countervailable subsidies, where appropriate. Accordingly, effective on the date of publication of the ITC's final affirmative injury determinations, CBP will require, at the same time as importers would normally deposit estimated duties on this subject merchandise, a cash deposit equal to the estimated weighted-average dumping margins listed below.⁷ The relevant all-others rates apply to all producers or exporters not specifically listed. For the purpose of determining cash deposit rates, the estimated weighted-average dumping margins for imports of subject merchandise from Brazil, India, and Korea, have been adjusted, as appropriate, for export subsidies found in the final determination of the companion countervailing duty investigations of this merchandise imported from Brazil, India, and Korea.⁸

⁷ See section 736(a)(3) of the Act.

⁸ See Brazil Final, 81 FR at 49947-8, India Final, 81 FR at 49939, and Korea Final, 81 FR at 49954-5. See also section 772(c)(1)(C) of the Act.

Brazil
Exporter/Producer | Weighted- average margin (percent) | Cash-deposit rate (percent) ⁹
Companhia Siderurgica Nacional | 19.58 | 15.49
Usiminas Siderurgicas de Minas Gerais S.A. (Usiminas) | 35.43 | 31.66
All-Others | 19.58 | 15.49

India
Exporter/Producer | Weighted- average margin (percent) | Cash-deposit rate (percent) ⁹
JSW Steel Limited/JSW Coated Products Limited | 7.60 | 6.70
All-Others | 7.60 | 6.70

Republic of Korea
Exporter/Producer | Weighted- average margin (percent) | Cash-deposit rate ⁹
Hyundai Steel Company | 34.33 | 34.33
POSCO and Daewoo International Corporation | 6.32 | 0.00
All-Others | 20.33 | 20.33

United Kingdom
Exporter/Producer | Weighted- average margin (percent)
Caparo Precision Strip, Ltd./Liberty Performance Steels Ltd. | 5.40
Tata Steel UK Ltd. | 25.17
All-Others | 22.58

Provisional Measures

Section 733(d) of the Act states that instructions issued pursuant to an affirmative preliminary determination may not remain in effect for more than four months, except where exporters representing a significant proportion of exports of the subject merchandise request the Department to extend that four-month period to no more than six months. At the request of exporters that account for a significant proportion of certain cold-rolled steel flat products from Brazil, India, Korea, and the United Kingdom, we extended the four-month period to six months in each case.¹⁰ In the underlying investigations, the Department published the preliminary determinations on March 7, 2016. Therefore, the extended period, beginning on the date of publication of the preliminary determinations, ended on September 2, 2016. Furthermore, section 737(b) of the Act states that definitive duties are to begin on the date of publication of the ITC's final injury determination.

⁹ The cash deposit rates are adjusted to account for the applicable export subsidy rates.

¹⁰ See Brazil Prelim, India Prelim, Korea Prelim, and UK Prelim.

Therefore, in accordance with section 733(d) of the Act and our practice, we will instruct CBP to terminate the suspension of liquidation and to liquidate, without regard to antidumping duties, unliquidated entries of certain cold-rolled steel flat products from Brazil, India, Korea, and the United Kingdom entered, or withdrawn from warehouse, for consumption after September 2, 2016, until and through the day preceding the date of publication of the ITC's final injury determinations in the Federal Register. Suspension of liquidation will resume on the date of publication of the ITC's final determination in the Federal Register.

Notifications to Interested Parties

This notice constitutes the AD orders with respect to cold-rolled steel from Brazil, India, Korea, and the United Kingdom, pursuant to section 736(a) of the Act. Interested parties may contact the Department's Central Records Unit, Room B8024 of the main Commerce building, for copies of an updated listed of AD orders currently in effect.

These orders are published in accordance with section 736(a) of the Act and 19 CFR 351.211(b).

Dated: September 14, 2016.
Paul Piquado,
Assistant Secretary for Enforcement and Compliance.

Appendix I

Scope of the Orders

The products covered by these orders are certain cold-rolled (cold-reduced), flat-rolled steel products, whether or not annealed, painted, varnished, or coated with plastics or other non-metallic substances. The products covered do not include those that are clad, plated, or coated with metal. The products covered include coils that have a width or other lateral measurement (“width”) of 12.7 mm or greater, regardless of form of coil (e.g., in successively superimposed layers, spirally oscillating, etc.). The products covered also include products not in coils (e.g., in straight lengths) of a thickness less than 4.75 mm and a width that is 12.7 mm or greater and that measures at least 10 times the thickness. The products covered also include products not in coils (e.g., in straight lengths) of a thickness of 4.75 mm or more and a width exceeding 150 mm and measuring at least twice the thickness. The products described above may be rectangular, square, circular, or other shape and include products of either rectangular or non-rectangular cross-section where such cross-section is achieved subsequent to the rolling process, i.e., products which have been “worked after rolling” (e.g., products which have been beveled or rounded at the edges). For purposes of the width and thickness requirements referenced above:

(1) Where the nominal and actual measurements vary, a product is within the scope if application of either the nominal or actual measurement would place it within the scope based on the definitions set forth above, and

(2) where the width and thickness vary for a specific product (e.g., the thickness of certain products with non-rectangular cross-section, the width of certain products with non-rectangular shape, etc.), the measurement at its greatest width or thickness applies.

Steel products included in the scope of these orders are products in which: (1) Iron predominates, by weight, over each of the other contained elements; (2) the carbon content is 2 percent or less, by weight; and (3) none of the elements listed below exceeds the quantity, by weight, respectively indicated:

• 2.50 percent of manganese, or

• 3.30 percent of silicon, or

• 1.50 percent of copper, or

• 1.50 percent of aluminum, or

• 1.25 percent of chromium, or

• 0.30 percent of cobalt, or

• 0.40 percent of lead, or

• 2.00 percent of nickel, or

• 0.30 percent of tungsten (also called wolfram), or

• 0.80 percent of molybdenum, or

• 0.10 percent of niobium (also called columbium), or

• 0.30 percent of vanadium, or

• 0.30 percent of zirconium

Unless specifically excluded, products are included in this scope regardless of levels of boron and titanium.

For example, specifically included in this scope are vacuum degassed, fully stabilized (commonly referred to as interstitial-free (IF)) steels, high strength low alloy (HSLA) steels, motor lamination steels, Advanced High Strength Steels (AHSS), and Ultra High Strength Steels (UHSS). IF steels are recognized as low carbon steels with micro-alloying levels of elements such as titanium and/or niobium added to stabilize carbon and nitrogen elements. HSLA steels are recognized as steels with micro-alloying levels of elements such as chromium, copper, niobium, titanium, vanadium, and molybdenum. Motor lamination steels contain micro-alloying levels of elements such as silicon and aluminum. AHSS and UHSS are considered high tensile strength and high elongation steels, although AHSS and UHSS are covered whether or not they are high tensile strength or high elongation steels.

Subject merchandise includes cold-rolled steel that has been further processed in a third country, including but not limited to annealing, tempering, painting, varnishing, trimming, cutting, punching, and/or slitting, or any other processing that would not otherwise remove the merchandise from the scope of the orders if performed in the country of manufacture of the cold-rolled steel.

All products that meet the written physical description, and in which the chemistry quantities do not exceed any one of the noted element levels listed above, are within the scope of these orders unless specifically excluded. The following products are outside of and/or specifically excluded from the scope of these orders:

• Ball bearing steels; ¹¹

¹¹ Ball bearing steels are defined as steels which contain, in addition to iron, each of the following elements by weight in the amount specified: (i) Not less than 0.95 nor more than 1.13 percent of carbon; (ii) not less than 0.22 nor more than 0.48 percent of manganese; (iii) none, or not more than 0.03 percent of sulfur; (iv) none, or not more than 0.03 percent of phosphorus; (v) not less than 0.18 nor more than 0.37 percent of silicon; (vi) not less than 1.25 nor more than 1.65 percent of chromium; (vii) none, or not more than 0.28 percent of nickel; (viii) none, or not more than 0.38 percent of copper; and (ix) none, or not more than 0.09 percent of molybdenum.

• Tool steels; ¹²

¹² Tool steels are defined as steels which contain the following combinations of elements in the quantity by weight respectively indicated: (i) More than 1.2 percent carbon and more than 10.5 percent chromium; or (ii) not less than 0.3 percent carbon and 1.25 percent or more but less than 10.5 percent chromium; or (iii) not less than 0.85 percent carbon and 1 percent to 1.8 percent, inclusive, manganese; or (iv) 0.9 percent to 1.2 percent, inclusive, chromium and 0.9 percent to 1.4 percent, inclusive, molybdenum; or (v) not less than 0.5 percent carbon and not less than 3.5 percent molybdenum; or (vi) not less than 0.5 percent carbon and not less than 5.5 percent tungsten.

• Silico-manganese steel; ¹³

¹³ Silico-manganese steel is defined as steels containing by weight: (i) Not more than 0.7 percent of carbon; (ii) 0.5 percent or more but not more than 1.9 percent of manganese, and (iii) 0.6 percent or more but not more than 2.3 percent of silicon.

• Grain-oriented electrical steels (GOES) as defined in the final determination of the U.S. Department of Commerce in Grain-Oriented Electrical Steel From Germany, Japan, and Poland.¹⁴

¹⁴ See Grain-Oriented Electrical Steel From Germany, Japan, and Poland: Final Determinations of Sales at Less Than Fair Value and Certain Final Affirmative Determination of Critical Circumstances, 79 FR 42501, 42503 (July 22, 2014). This determination defines grain-oriented electrical steel as “a flat-rolled alloy steel product containing by weight at least 0.6 percent but not more than 6 percent of silicon, not more than 0.08 percent of carbon, not more than 1.0 percent of aluminum, and no other element in an amount that would give the steel the characteristics of another alloy steel, in coils or in straight lengths.”

• Non-Oriented Electrical Steels (NOES), as defined in the antidumping orders issued by the U.S. Department of Commerce in Non-Oriented Electrical Steel From the People's Republic of China, Germany, Japan, the Republic of Korea, Sweden, and Taiwan.¹⁵

¹⁵ See Non-Oriented Electrical Steel From the People's Republic of China, Germany, Japan, the Republic of Korea, Sweden, and Taiwan: Antidumping Duty Orders, 79 FR 71741, 71741-42 (December 3, 2014). The orders define NOES as “cold-rolled, flat-rolled, alloy steel products, whether or not in coils, regardless of width, having an actual thickness of 0.20 mm or more, in which the core loss is substantially equal in any direction of magnetization in the plane of the material. The term `substantially equal' means that the cross grain direction of core loss is no more than 1.5 times the straight grain direction (i.e., the rolling direction) of core loss. NOES has a magnetic permeability that does not exceed 1.65 Tesla when tested at a field of 800 A/m (equivalent to 10 Oersteds) along (i.e., parallel to) the rolling direction of the sheet (i.e., B800 value). NOES contains by weight more than 1.00 percent of silicon but less than 3.5 percent of silicon, not more than 0.08 percent of carbon, and not more than 1.5 percent of aluminum. NOES has a surface oxide coating, to which an insulation coating may be applied.”

The products subject to these orders are currently classified in the Harmonized Tariff Schedule of the United States (HTSUS) under item numbers: 7209.15.0000, 7209.16.0030, 7209.16.0060, 7209.16.0070, 7209.16.0091, 7209.17.0030, 7209.17.0060, 7209.17.0070, 7209.17.0091, 7209.18.1530, 7209.18.1560, 7209.18.2510, 7209.18.2520, 7209.18.2580, 7209.18.6020, 7209.18.6090, 7209.25.0000, 7209.26.0000, 7209.27.0000, 7209.28.0000, 7209.90.0000, 7210.70.3000, 7211.23.1500, 7211.23.2000, 7211.23.3000, 7211.23.4500, 7211.23.6030, 7211.23.6060, 7211.23.6090, 7211.29.2030, 7211.29.2090, 7211.29.4500, 7211.29.6030, 7211.29.6080, 7211.90.0000, 7212.40.1000, 7212.40.5000, 7225.50.6000, 7225.50.8080, 7225.99.0090, 7226.92.5000, 7226.92.7050, and 7226.92.8050. The products subject to these orders may also enter under the following HTSUS numbers: 7210.90.9000, 7212.50.0000, 7215.10.0010, 7215.10.0080, 7215.50.0016, 7215.50.0018, 7215.50.0020, 7215.50.0061, 7215.50.0063, 7215.50.0065, 7215.50.0090, 7215.90.5000, 7217.10.1000, 7217.10.2000, 7217.10.3000, 7217.10.7000, 7217.90.1000, 7217.90.5030, 7217.90.5060, 7217.90.5090, 7225.19.0000, 7226.19.1000, 7226.19.9000, 7226.99.0180, 7228.50.5015, 7228.50.5040, 7228.50.5070, 7228.60.8000, and 7229.90.1000.

The HTSUS subheadings above are provided for convenience and U.S. Customs purposes only. The written description of the scope of the orders is dispositive.

[FR Doc. 2016-22613 Filed 9-19-16; 8:45 am]

BILLING CODE 3510-DS-P